DEPARTMENT OF ENERGY

Federal Energy Regulatory Commission

[Docket No. EG00-79-000, et al.]

West Fork Land Development Company, L.L.C., et al.; Electric Rate and Corporate Regulation Filings

January 24, 2000.

Take notice that the following filings have been made with the Commission:

1. West Fork Land Development Company, L.L.C.

[Docket No. EG00-79-000]

Take notice that on January 18, 2000, West Fork Land Development Company, L.L.C. (West Fork), tendered for filing with the Federal Energy Regulatory Commission (Commission) an application for determination of exempt wholesale generator status pursuant to Part 365 of the Commission's Regulations.

West Fork is a Delaware limited liability company and a wholly-owned subsidiary of Enron North America Corp. West Fork's facility will be a natural gas-fired, single cycle generating facility with a combined generating capacity of approximately 575 MW (winter rating). Commercial operations are expected to commence in May 2000.

West Fork further states that copies of the application were served upon the Securities and Exchange Commission and the Indiana Utility Regulatory Commission.

Comment date: February 7, 2000, in accordance with Standard Paragraph E at the end of this notice. The Commission will limit its consideration of comments to those that concern the adequacy or accuracy of the application.

2. Des Plaines Green Land Development, L.L.C.

[Docket No. EG00-80-000]

Take notice that on January 18, 2000, Des Plaines Green Land Development, L.L.C. (Des Plaines Green Land), tendered for filing filed with the Federal Energy Regulatory Commission (Commission) an application for determination of exempt wholesale generator status pursuant to Part 365 of the Commission's Regulations.

Des Plaines Green Land is a Delaware limited liability company and a wholly-owned subsidiary of Enron North America Corp. Des Plaines Green Land's facility will be a natural gas-fired, single cycle generating facility with a combined generating capacity of approximately 700 MW (winter rating). Commercial operations are expected to commence in June 2000.

Des Plaines Green Land further states that copies of the application were served upon the Securities and Exchange Commission and the Illinois Commerce Commission.

Comment date: February 7, 2000, in accordance with Standard Paragraph E at the end of this notice. The Commission will limit its consideration of comments to those that concern the adequacy or accuracy of the application.

3. Gleason Power I, L.L.C.

[Docket No. EG00-81-000]

Take notice that on January 18, 2000, Gleason Power I, L.L.C. (Gleason Power), filed with the Federal Energy Regulatory Commission (Commission) an application for determination of exempt wholesale generator status pursuant to Part 365 of the Commission's Regulations.

Gleason Power is a Delaware limited liability company and a wholly-owned subsidiary of Enron North America Corp. Gleason Power's facility will be a natural gas-fired, single cycle generating facility with a combined generating capacity of approximately 585 MW (winter rating). Commercial operations are expected to commence in May 2000.

Gleason Power further states that copies of the application were served upon the Securities and Exchange Commission and the Tennessee Regulatory Authority.

Comment date: February 7, 2000, in accordance with Standard Paragraph E at the end of this notice. The Commission will limit its consideration of comments to those that concern the adequacy or accuracy of the application.

4. Pan American Energy LLC

[Docket No. EG00-82-000]

Take notice that on January 19, 2000, Pan American Energy LLC, a Delaware limited liability company, with offices at Av. Leandro N. Alem 1180, Buenos Aires, 1001, Argentina, (the Applicant), filed with the Federal Energy Regulatory Commission an application for determination of exempt wholesale generator (EWG) status pursuant to Part 365 of the Commission's Regulations.

The Applicant will be engaged indirectly, through an affiliate as defined in Section 2(a)(11)(B) of the Public Utility Holding Company Act of 1935 (PUHCA), in owning and operating eligible facilities constructed in Argentina: the 77 MW Central Termica Patagonia power plant located near Comodoro Rivadavia, Argentina, consisting of two General Electric Frame-6 simple cycle gas turbine-generator sets and associated equipment and real estate. The turbines are natural gas-fired only.

Comment date: February 8, 2000, in accordance with Standard Paragraph E at the end of this notice.

5. Pan American Energy LLC

[Docket No. EG00-83-000]

Take notice that on January 19, 2000, Pan American Energy LLC, a Delaware limited liability company, with offices at Av. Leandro N. Alem 1180, Buenos Aires, 1001, ARGENTINA (the Applicant), filed with the Federal Energy Regulatory Commission an application for determination of exempt wholesale generator (EWG) status pursuant to Part 365 of the Commission's Regulations.

The Applicant will be engaged indirectly, through an affiliate as defined in Section 2(a)(11)(B) of the Public Utility Holding Company Act of 1935 (PUHCA), in owning and operating eligible facilities constructed in Argentina: the 774.5 MW Dock Sud power plant located near the Greater Buenos Aires Area, Argentina, consisting of two ABB GT-26 combined cycle combustion turbines, 2 Babcock Wilcox heat recovery boilers, and one ABB steam turbine sub-station, and associated equipment and real estate, all of which will be an eligible facility. The turbines will be natural gas-fired only.

Comment date: February 8, 2000, in accordance with Standard Paragraph E at the end of this notice.

6. Atlantic City Electric Company, Camden Cogen, L.P., et al.

[Docket No. EL00-36-000]

Take notice that on January 21, 2000, Atlantic City Electric Company, Camden Cogen, L.P., Delmarva Power & Light Company, Edison Mission Marketing & Trading, Inc., Electric Power Supply Association, FPL Energy, Inc., New Energy Inc., Old Dominion Electric Cooperative, PECO Energy Company, PG&E Energy Trading-Power, L.P., PG&E Generating Company, Sithe Power Marketing, L.P., Strategic Energy L.L.C., Virginia Electric and Power Company, Williams Energy Marketing and Trading Company, WPS Energy Services, Inc., (together, the Complainants), tendered for filing a complaint against PJM Interconnection, L.L.C. for attempting to eliminate certain payments for Operating Reserves without a FERC rate filing.

Comment date: January 31, 2000, in accordance with Standard Paragraph E at the end of this notice. Answers to the complaint shall also be due on or before January 31, 2000.

7. New England Power Pool

[Docket No. ER99-2335-000]

Take notice that on January 19, 2000, the New England Power Pool (NEPOOL) Participants Committee tendered for filing additional information to its December 30, 1999, filing identifying the status of its efforts to develop a Congestion Management System and Multi-Settlement System. This supplemental information provides an update.

The NEPOOL Participants Committee states that copies of these materials were sent to all entities on the service lists in the above-captioned docket, to the Participants in the New England Power Pool, and to the New England state governors and regulatory commissions.

Comment date: February 8, 2000, in accordance with Standard Paragraph E at the end of this notice.

8. Atlantic City Electric Company, and Baltimore Gas & Electric Company, et al.

[Docket No. ER00-638-000]

Take notice that on January 19, 2000, Atlantic City Electric Company, Baltimore Gas & Electric Company, Delmarva Power & Light Company, Metropolitan Edison Company, PP&L, Inc., PECO Energy Company, UGI Utilities, Inc., Potomac Electric Power Company and Public Service Electric and Gas Company (together, the Conemaugh Switching Station Owners), tendered for filing an amendment to their November 23, 1999 filing in this docket.

Comment date: February 8, 2000, in accordance with Standard Paragraph E at the end of this notice.

9. Pennsylvania Electric Company

[Docket No. ER00-639-000]

Take notice that on January 19, 2000, Pennsylvania Electric Company (doing business as GPU Energy) tendered for filing an amendment to its November 23, 1999 filing in this docket.

Comment date: February 8, 2000, in accordance with Standard Paragraph E at the end of this notice.

10. Gleason Power I, L.L.C.

[Docket No. ER00-1139-000]

Take notice that on January 18, 2000, Gleason Power I, L.L.C. (Gleason Power), tendered for filing an application for waivers and blanket approvals under various regulations of the Commission and for an order accepting Gleason Power's FERC Electric Rate Schedule No. 1 to be effective on March 15, 2000.

Gleason Power intends to engage in electric power and energy transactions as a marketer and a broker. In transactions where Gleason Power sells electric energy, it proposes to make such sales on rates, terms and conditions to be mutually agreed to with the purchasing party.

Comment date: February 7, 2000, in accordance with Standard Paragraph E at the end of this notice.

11. Des Plaines Green Land Development, L.L.C.

[Docket No. ER00-1140-000]

Take notice that on January 18, 2000, Des Plaines Green Land Development, L.L.C. (Des Plaines Green Land), tendered for filing an application for waivers and blanket approvals under various regulations of the Commission and for an order accepting Des Plaines Green Land's FERC Electric Rate Schedule No. 1 to be effective on March 15, 2000.

Des Plaines Green Land intends to engage in electric power and energy transactions as a marketer and a broker. In transactions where Des Plaines Green Land sells electric energy, it proposes to make such sales on rates, terms and conditions to be mutually agreed to with the purchasing party.

Comment date: February 7, 2000, in accordance with Standard Paragraph E at the end of this notice.

12. West Fork Land Development Company, L.L.C.

[Docket No. ER00-1141-000]

Take notice that on January 18, 2000, West Fork Land Development Company, L.L.C. (West Fork), tendered for filing an application for waivers and blanket approvals under various regulations of the Commission and for an order accepting West Fork's FERC Electric Rate Schedule No. 1, to be effective on March 15, 2000.

West Fork intends to engage in electric power and energy transactions as a marketer and a broker. In transactions where West Fork sells electric energy, it proposes to make such sales on rates, terms and conditions to be mutually agreed to with the purchasing party.

Comment date: February 7, 2000, in accordance with Standard Paragraph E at the end of this notice.

13. Ameren Services Company

[Docket No. ER00-1144-000]

Take notice that on January 19, 2000, Ameren Services Company (AMS) tendered for filing an Interconnection Agreement between AMS and Soyland Power Cooperative, Inc. (Soyland). AMS asserts that the purpose of the Agreement is to, among other things, establish the rights and obligations of Soyland, the point of interconnection and Irrevocable Letter of Credit.

Comment date: February 8, 2000, in accordance with Standard Paragraph E at the end of this notice.

14. Ameren Services Company

[Docket No. ER00-1145-000]

Take notice that on January 19, 2000, Ameren Services Company (AMS) tendered for filing an Interconnection Agreement between AMS and Southwestern Electric Cooperative, Inc. (Southwestern). AMS asserts that the purpose of the Agreement is to, among other things, establish the rights and obligations of Southwestern, the point of interconnection and Irrevocable Letter of Credit.

Comment date: February 8, 2000, in accordance with Standard Paragraph E at the end of this notice.

15. New York State Electric & Gas Corporation

[Docket No. ER00-1146-000]

Take notice that on January 19, 2000, New York State Electric & Gas Corporation (NYSEG) tendered for filing pursuant to Section 35.15 of the Commission's Regulations, 18 CFR 35.15, a Notice of Cancellation of inactive rate schedules between NYSEG and Central Maine Power Company (CMP), DuPont Power Marketing Inc. (DuPont), EnerZ Corporation (EnerZ), Ensearch Energy Service (New York) (Ensearch), Equitable Power Services Company (Equitable), MidCon Power Services Corp. (MidCon), New England Power Company (NEPCo), North American Energy Conservation, Inc. (NAEC), and Virginia Electric and Power Company (VEPCo). NYSEG requests that the Notice of Cancellation be deemed effective as of January 20, 2000. To the extent required to give effect to the Notice of Cancellation, NYSEG requests waiver of the notice requirements pursuant to Section 35.15 of the Commission's Regulations, 18 CFR 35.15.

NYSEG served copies of the filing upon the New York State Public Service Commission, CMP, DuPont, EnerZ, Ensearch, Equitable, MidCon, NEPCo, NAEC, and VEPCo.

Comment date: February 8, 2000, in accordance with Standard Paragraph E at the end of this notice.

16. AES Londonderry, LLC

[Docket No. ER00-1147-000]

Take notice that on January 19, 2000, AES Londonderry, LLC (AES Londonderry), tendered for filing an initial rate schedule and request for certain waivers and authorizations pursuant to Section 35.12 of the regulations of the Federal Energy Regulatory Commission (the Commission). The initial rate schedule provides for the sale to wholesale purchasers at market-based rates of the output of an electric power generation facility under development by AES Londonderry in Londonderry, Rockingham County, New Hampshire (the Facility). AES Londonderry requests that the Commission promptly accept the rate schedule for filing, without suspension, investigation or refund liability, and make the rate schedule effective as of the date that service commences at the Facility.

A copy of the filing was served upon the New Hampshire Public Utilities Commission.

Comment date: February 8, 2000, in accordance with Standard Paragraph E at the end of this notice.

17. Cinergy Services, Inc.

[Docket No. ER00-1148-000]

Take notice that on January 19, 2000, Cinergy Services, Inc., collectively as agent for and on behalf of its utility operating company affiliates, The Cincinnati Gas & Electric Company and PSI Energy, Inc. (Cinergy), tendered for filing a service agreement under Cinergy's Resale, Assignment or Transfer of Transmission Rights and Ancillary Service Rights Tariff (the Tariff) entered into between Cinergy and DTE Energy Trading, Inc., (DTE ET).

Cinergy and DTE ET are requesting an effective date of January 1, 2000.

Comment date: February 8, 2000, in accordance with Standard Paragraph E at the end of this notice.

18. Allegheny Energy Service Corporation, on behalf of Monongahela Power Company, et. al.

[Docket No. ER00-1149-000]

Take notice that on January 19, 2000, Allegheny Energy Service Corporation on behalf of Monongahela Power Company, The Potomac Edison Company and West Penn Power Company (Allegheny Power), tendered for filing Supplement No. 69 to add Engage Energy US, L.P., to Allegheny Power Open Access Transmission Service Tariff which has been accepted for filing by the Federal Energy Regulatory Commission in Docket No. ER96-58-000.

The proposed effective date under the Service Agreement is January 18, 2000 or a date ordered by the Commission.

Copies of the filing have been provided to the Public Utilities Commission of Ohio, the Pennsylvania Public Utility Commission, the Maryland Public Service Commission, the Virginia State Corporation Commission, and the West Virginia Public Service Commission.

Comment date: February 8, 2000, in accordance with Standard Paragraph E at the end of this notice.

19. Allegheny Energy Service Corporation on behalf of Allegheny Energy Supply Company, LLC

[Docket No. ER00-1150-000]

Take notice that on January 19, 2000, Allegheny Energy Service Corporation on behalf of Allegheny Energy Supply Company, LLC (Allegheny Energy Supply), tendered for filing Supplement No. 17 to add one (1) new Customer (Nicole Energy Services, Inc.) to the Market Rate Tariff under which Allegheny Energy Supply offers generation services.

Allegheny Energy Supply requests a waiver of notice requirements to make service available as of December 29, 1999 to Nicole Energy Services, Inc.

Copies of the filing have been provided to the Public Utilities Commission of Ohio, the Pennsylvania Public Utility Commission, the Maryland Public Service Commission, the Virginia State Corporation Commission, the West Virginia Public Service Commission, and all parties of record.

Comment date: February 8, 2000, in accordance with Standard Paragraph E at the end of this notice.

20. Northeast Utilities Service Company

[Docket Nos. ER95-1686-006, ER96-496-008, ER97-1359-000, OA97-300-000, ER98-4604-000]

Take notice that on January 14, 2000, Northeast Utilities Service Company (NUSCO), tendered for filing revisions to the Northeast Utilities System Companies Open Access Transmission Service Tariff No. 9 and Supplements 1 and 2 to that tariff in compliance with the Commission's order in Northeast Utilities Service Company, 89 FERC ¶ 61,184 (1999).

Comment date: February 3, 2000, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-2335 Filed 2-2-00; 8:45 am]

BILLING CODE 6717-01-P